DEPARTMENT OF ENERGY

Federal Energy Regulatory Commission

Combined Notice of Filings

Take notice that the Commission has received the following Natural Gas Pipeline Rate and Refund Report filings:

Filings Instituting Proceedings

Docket Numbers: RP13-675-000.

Applicants: Dominion Transmission, Inc.,Dominion South Pipeline Company, LP,Dominion Cove Point LNG, LP.

Description: Dominion Transmission, Inc., et al. submits Request for Temporary Waiver of Certain NAESB Standards and Commission Regulations.

Filed Date: 3/5/13.

Accession Number: 20130305-5198.

Comments Due: 5 p.m. ET 3/13/13.

Docket Numbers: RP13-676-000.

Applicants: East Tennessee Natural Gas, LLC.

Description: Scheduling Flexibility to be effective 6/1/2013.

Filed Date: 3/7/13.

Accession Number: 20130307-5143.

Comments Due: 5 p.m. ET 3/19/13.

Docket Numbers: RP13-677-000.

Applicants: Saltville Gas Storage Company L.L.C.

Description: Scheduling Flexibility to be effective 6/1/2013.

Filed Date: 3/7/13.

Accession Number: 20130307-5144.

Comments Due: 5 p.m. ET 3/19/13.

Docket Numbers: RP13-678-000.

Applicants: Trunkline Gas Company, LLC.

Description: Trunkline Gas Company, LLC submits Precedent Agreement with Sabine Pass Liquefaction, LLC.

Filed Date: 3/7/13.

Accession Number: 20130307-5194.

Comments Due: 5 p.m. ET 3/19/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-571-001.

Applicants: Columbia Gas Transmission, LLC.

Description: Non-Conforming Remediation Errata to be effective 3/18/2013.

Filed Date: 3/7/13.

Accession Number: 20130307-5182.

Comments Due: 5 p.m. ET 3/19/13.

Docket Numbers: RP12-1013-002.

Applicants: Ruby Pipeline, L.L.C.

Description: Ruby Pipeline, L.L.C. submits tariff filing per 154.203: Compliance in Docket No. RP12-1013. Proceeding (Fuel) to be effective 4/7/2013.

Filed Date: 3/8/13.

Accession Number: 20130308-5195.

Comments Due: 5 p.m. ET 3/20/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 11, 2013.
Nathaniel J. Davis, Sr.,
Deputy Secretary.

[FR Doc. 2013-06094 Filed 3-15-13; 8:45 am]

BILLING CODE 6717-01-P